DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Island Pelagic Longline Fisheries; Short-tailed Albatross-Fisheries Interaction Recovery Reporting.

OMB Control Number: 0648-0456.

Form Number(s): None.

Type of Request: Regular (extension of a currently approved information collection).

Number of Respondents: 1.

Average Hours per Response: 1.

Burden Hours: 3.

Needs and Uses: This request is for extension of a currently approved information collection. Federal regulations require the operator of a vessel with a Hawaii longline limited access permit vessel to notify NMFS if an endangered short-tailed albatross is hooked or entangled during fishing operations. Following the retrieval of the albatross from the ocean the vessel operator must record the condition of the bird on a recovery data form. A veterinarian will use the information to provide advice to the captain for caring for the bird. If the albatross is dead, the captain must attach an identification tag to the carcass to assist the U.S. Fish and Wildlife Service (USFWS) biologists in subsequent studies. This collection of information is one of the terms and conditions contained in the Endangered Species Act Section 7 biological opinion issued by USFWS, and is intended to maximize the probability of the long-term survival of short-tailed albatrosses accidentally taken by longline gear.

Affected Public: Business or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: August 6, 2018.
Sarah Brabson,
NOAA PRA Clearance Officer.

[FR Doc. 2018-17057 Filed 8-8-18; 8:45 am]

BILLING CODE 3510-22-P